DEPARTMENT OF COMMERCE

Foreign-Trade Zones Board

[B-30-2022]

Foreign-Trade Zone (FTZ) 167—Green Bay, Wisconsin; Notification of Proposed Production Activity, Shipbuilders of Wisconsin, Inc., d/b/a Burger Boat Company, (Construction and Repair of Vessels and Hulls), Manitowoc, Wisconsin

Shipbuilders of Wisconsin, Inc., d/b/a Burger Boat Company (Burger Boat) submitted a notification of proposed production activity to the FTZ Board (the Board) for its facility in Manitowoc, Wisconsin within FTZ 167. The notification conforming to the requirements of the Board's regulations (15 CFR 400.22) was received on July 28, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include passenger/vehicle ferries, motor yachts and pleasure or sports vessels of a length exceeding 7.5 meters, research vessels, and aluminum hulls and hull modules (duty rate ranges from duty-free to 1.5%).

The proposed foreign-status materials and components include: carpeting and rugs (wool; man-made textile material); natural stone tiles with height and width less than seven centimeters; marble, granite, and onyx for floors, countertops, or walls; quartz slabs for countertops; China tableware; window glass (tempered; laminated); lead crystal glassware and barware; silverware sets; weathertight and watertight marine doors (iron; steel; aluminum); anchor chains; anchors and grapnels (iron; steel); mooring bollards; aluminum passerelles/walkways; spark-ignition reciprocating or rotary internal combustion piston marine propulsion engines; engine mounts for marine propulsion engines with spark-ignition internal combustion pistons; hydraulic power units (linear acting; non-linear acting); pumps (lubricating oil; hydraulic; fresh water system); ventilation fans, hoods not exceeding 120 centimeter width, fan blades, and motors; HVAC central air conditioning machines with refrigerating units; HVAC motor-driven fans, chassis, chassis bases, outer cabinets, and evaporator coils; fire dampers; water mist extinguisher systems; winches and capstans (electric; non-electric); davits/cranes; propellers and blades; DC electric motors of an output exceeding 750W but not exceeding 375 kW; AC generators; liquid dielectric transformers; non-liquid dielectric transformers having a power handling capacity exceeding 1 kVA; motor boat tenders; aluminum hull modules (bow and stern) and super structures for yachts of a length exceeding 7.5 meters; aluminum hulls and hull modules; wood furniture; LED chandeliers and electric ceiling or wall lighting fittings (made of base or non-base metals); chandeliers and electric ceiling or wall lighting fittings (made of brass, or non-base metals); chandeliers and electric ceiling or wall lighting fittings not designed exclusively for LED (made of base metals other than brass); LED search lights and spotlights (made of base or non-base metals); and, search lights and spotlights not designed exclusively for LED (duty rate ranges from duty-free to 7.6%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is September 14, 2022.

A copy of the notification will be available for public inspection in the “Online FTZ Information System” section of the Board's website.

For further information, contact Juanita Chen juanita.chen@trade.gov.

Dated: August 1, 2022.
Andrew McGilvray,
Executive Secretary.

[FR Doc. 2022-16810 Filed 8-4-22; 8:45 am]

BILLING CODE 3510-DS-P